DEPARTMENT OF ENERGY

[EERE-2020-BT-CRT-0018]

Proposed Agency Information Collection Extension

AGENCY: Office of Energy Efficiency and Renewable Energy, U.S. Department of Energy.

ACTION: Information collection extension, with changes; notice and request for comment.

SUMMARY: The U.S. Department of Energy (DOE) intends to extend with changes for three years with the Office of Management and Budget (OMB), the Certification Reports, Compliance Statements, Application for a Test Procedure Waiver, and Recordkeeping for Consumer Products and Commercial/Industrial Equipment subject to Energy or Water Conservation Standards Package under OMB No. 1910-1400.

DATES: Written comments and information are requested and will be accepted on or before January 22, 2021.

ADDRESSES: Interested persons are encouraged to submit comments using the Federal eRulemaking Portal at http://www.regulations.gov. Follow the instructions for submitting comments. Alternatively, interested persons may submit comments, identified by docket number EERE-2020-BT-CRT-0018, by any of the following methods:

1. Federal eRulemaking Portal: http://www.regulations.gov. Follow the instructions for submitting comments.

2. Email: to InfoCollection2020CRT0018@ee.doe.gov. Include docket number EERE-2020-BT-CRT-0018 in the subject line of the message.

3. Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

4. Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at http://www.regulations.gov/#!docketDetail;D=EERE-2020-BT-CRT-0018. The docket web page will contain simple instructions on how to access all documents, including public comments, in the docket.

FOR FURTHER INFORMATION CONTACT: Ms. Catherine Rivest, U.S. Department of Energy, Office of Energy Efficiency and Renewable Energy, Building Technologies Office, EE-5B, 1000 Independence Avenue SW, Washington, DC 20585-0121. Telephone: (202) 586-7335. Email: ApplianceStandardsQuestions@ee.doe.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-1400;

(2) Information Collection Request Title: Certification Reports, Compliance Statements, Application for a Test Procedure Waiver, Application for Extension of Representation Requirements, Labeling, and Recordkeeping for Consumer Products and Commercial/Industrial Equipment subject to Federal Energy or Water Conservation Standards;

(3) Type of Request: Revision with changes;

(4) Purpose:

Pursuant to the Energy Policy and Conservation Act, as amended (“EPCA” or “the Act”),¹ Public Law 94-163 (42 U.S.C. 6291-6317, as codified), DOE regulates the energy efficiency of a number of consumer products, and commercial and industrial equipment. Title III, Part B ² of EPCA established the Energy Conservation Program for Consumer Products Other Than Automobiles, which sets forth a variety of provisions designed to improve energy efficiency of covered consumer products (“covered products”). Title III, Part C ³ of EPCA, added by Public Law 95-619, Title IV, § 441(a), established the Energy Conservation Program for Certain Industrial Equipment, which sets forth a variety of provisions designed to improve energy efficiency of covered commercial and industrial equipment (collectively referred to as “covered equipment”).

¹ All references to EPCA in this document refer to the statute as amended through America's Water Infrastructure Act of 2018, Public Law 115-270 (Oct. 23, 2018).

² For editorial reasons, upon codification in the U.S. Code, Part B was redesignated Part A.

³ For editorial reasons, upon codification in the U.S. Code, Part C was redesignated Part A-1.

Covered products and covered equipment are described in 10 CFR parts 429, 430, and 431. These covered products and covered equipment, including all product or equipment classes, include: (1) Consumer refrigerators, refrigerator-freezers and freezers; (2) Room air conditioners; (3) Central air conditioners and central air conditioning heat pumps; (4) Consumer water heaters; (5) Consumer furnaces and boilers; (6) Dishwashers; (7) Residential clothes washers; (8) Clothes dryers; (9) Direct heating equipment; (10) Cooking products; (11) Pool heaters; (12) Television sets; (13) Fluorescent lamp ballasts; (14) General service fluorescent lamps, general service incandescent lamps, and incandescent reflector lamps; (15) Faucets; (16) Showerheads; (17) Water closets; (18) Urinals; (19) Ceiling fans; (20) Ceiling fan light kits; (21) Torchieres; (22) Compact fluorescent lamps; (23) Dehumidifiers; (24) External power supplies; (25) Battery chargers; (26) Candelabra base incandescent lamps and intermediate base incandescent lamps; (27) Commercial warm air furnaces; (28) Commercial refrigerators, freezers, and refrigerator-freezers; (29) Commercial heating and air conditioning equipment; (30) Commercial water heating equipment; (31) Automatic commercial ice makers; (32) Commercial clothes washers; (33) Distribution transformers; (34) Illuminated exit signs; (35) Traffic signal modules and pedestrian modules; (36) Commercial unit heaters; (37) Commercial pre-rinse spray valves; (38) Refrigerated bottled or canned beverage vending machines; (39) Walk-in coolers and walk-in freezers and certain components; (40) Metal halide lamp ballasts and fixtures; (41) Integrated light-emitting diode lamps; (42) General service lamps; (43) Furnace fans; (44) Pumps; (45) Commercial packaged boilers; (46) Consumer miscellaneous refrigeration equipment; (47) Portable air conditioners; (48) Compressors; (49) Electric motors; (50) Small electric motors; (51) rough service lamps; and (52) vibration service lamps.

Under EPCA, DOE's energy conservation program consists essentially of four parts: (1) Testing, (2) labeling, (3) Federal energy conservation standards, and (4) certification and enforcement procedures. For consumer products, relevant provisions of the Act specifically include definitions (42 U.S.C. 6291), energy conservation standards (42 U.S.C. 6295), test procedures (42 U.S.C. 6293), labeling provisions (42 U.S.C. 6294), and the authority to require information and reports from manufacturers (42 U.S.C. 6296). For covered equipment, relevant provisions of the Act include definitions (42 U.S.C. 6311), energy conservation standards (42 U.S.C. 6313), test procedures (42 U.S.C. 6314), labeling provisions (42 U.S.C. 6315), and the authority to require information and reports from manufacturers (42 U.S.C. 6316).

DOE is seeking to renew its information collection related to the following aspects of the appliance standards program: (1) Gathering data and submitting certification and compliance reports for each basic model distributed in commerce in the U.S. including supplemental testing instructions for certain commercial equipment; (2) maintaining records underlying the certified ratings for each basic model including test data and the associated calculations; (3) applications for a test procedure waiver, which manufacturers may elect to submit if they manufacture a basic model that cannot be tested pursuant to the DOE test procedure; (4) applications requesting an extension of the date by which representations must be made in accordance with any new or amended DOE test procedure; and (5) labeling.

DOE's certification and compliance activities ensure accurate and comprehensive information about the energy and water use characteristics of covered products and covered equipment sold in the United States. Manufacturers of all covered products and covered equipment must submit a certification report before a basic model is distributed in commerce, annually thereafter, and if the basic model is redesigned in such a manner to increase the consumption or decrease the efficiency of the basic model such that the certified rating is no longer supported by the test data. Additionally, manufacturers must report when production of a basic model has ceased and is no longer offered for sale as part of the next annual certification report following such cessation. DOE requires the manufacturer of any covered product or covered equipment to establish, maintain, and retain the records of certification reports, of the underlying test data for all certification testing, and of any other testing conducted to satisfy the requirements of part 429, part 430, and/or part 431. Certification reports provide DOE and consumers with comprehensive, up-to-date efficiency information and support effective enforcement.

As the result of a negotiated rulemaking, DOE adopted additional certification requirements for commercial HVAC, water heater, and refrigeration equipment. Specifically, DOE requires manufacturers of commercial refrigeration equipment and some types of commercial HVAC equipment to submit a PDF with specific testing instructions to be used by the Department during verification and enforcement testing. Manufacturers of commercial water heating equipment and some types of commercial HVAC equipment have the option of submitting a PDF with additional testing instructions at the manufacturer's discretion. For additional information on the negotiated rulemaking or supplemental testing instructions see docket number EERE-2013-BT-NOC-0023.

On December 18, 2014, Congress enacted the EPS Service Parts Act of 2014 (Pub. L. 113-263, “Service Parts Act”). That law exempted manufacturers of certain external power supplies (“EPSs”) that were made available as service and spare parts for end-use products manufactured before February 10, 2016, from the energy conservation standards that DOE promulgated in its February 2014 rule. See 79 FR 7846 (Feb. 10, 2014). Additionally, the Service Parts Act permits DOE to require manufacturers of an EPS that is exempt from the 2016 standards to report to DOE the total number of such EPS units that are shipped annually as service and spare parts and that do not meet those standards. (42 U.S.C. 6295(u)(5)(A)(ii)) DOE may also limit the applicability of the exemption if the Secretary determines that the exemption is resulting in a significant reduction of the energy savings that would result in the absence of the exemption. (42 U.S.C. 6295(u)(5)(A)(iii)) In a final rule published on May 16, 2016, DOE adopted reporting requirements for EPS manufacturers to provide the total number of exempt EPS units sold as service and spare parts for which the manufacturer is claiming exemption from the current standards. 81 FR 30157.

On April 30, 2015, Congress enacted the Energy Efficiency Improvement Act of 2015 (Pub. L. 114-11, “Energy Efficiency Improvement Act”). That law established definitions and energy conservation standards for grid-enabled water heaters that DOE promulgated in its August 2015 Final Rule. See 80 FR 48004 (Aug. 11, 2015). Additionally, the Energy Efficiency Improvement Act mandates DOE to require manufacturers of grid-enabled water heaters to report to DOE the total number of such units that are shipped annually. (42 U.S.C. 6295(e)(6)(C)(i))

DOE currently requires manufacturers or their party representatives to prepare and submit certification reports and compliance statements using DOE's electronic web-based tool, the Compliance and Certification Management System (CCMS), which is the primary mechanism for submitting certification reports to DOE. CCMS currently has product and equipment specific templates which manufacturers are required to use when submitting certification data to DOE. DOE believes the availability of electronic filing through the CCMS system reduces reporting burdens, streamlines the process, and provides the Department with needed information in a standardized, more accessible form. This electronic filing system also ensures that records are recorded in a permanent, systematic way.

Manufacturers also may rely on CCMS reporting to satisfy certain reporting requirements established by the Federal Trade Commission (“FTC”). EPCA directs the FTC generally to prescribe labeling rules for the consumer products subject to energy conservation standards under EPCA. (42 U.S.C. 6296) The required labels generally must disclose the estimated annual operating cost of such product (determined in accordance with Federal test procedures); and information respecting the range of estimated annual operating costs for covered products to which the rule applies. (42 U.S.C. 6296(c)(1)) Pursuant to EPCA, the FTC prescribed the Energy Labeling Rule, which in part, requires manufacturers to attach yellow EnergyGuide labels to many of the covered consumer products. See 16 CFR part 305. EnergyGuide labels for most products subject to the FTC labeling requirement contain three key disclosures: Estimated annual energy cost (16 CFR 305.5); a product's energy consumption or energy efficiency rating as determined from DOE test procedures (Id.); and a comparability range displaying the highest and lowest energy costs or efficiency ratings for all similar models (16 CFR 305.10).

The Energy Labeling Rule also contains reporting requirements for most products, under which manufacturers must submit data to the FTC both when they begin manufacturing new models and on an annual basis thereafter. 16 CFR 305.8. These reports must contain, among other things, estimated annual energy consumption or energy efficiency ratings, similar to what is required under DOE's reporting requirement. Id. Prior to 2013, FTC collected energy data on products subject to the Energy Labeling Rule separate from DOE through paper and email submissions to the FTC. This arrangement required manufacturers to submit nearly duplicative reports to DOE and FTC.

However, in 2013 the FTC streamlined and harmonized its reporting requirements by giving manufacturers the option to report FTC-required data through DOE's CCMS, in lieu of the traditional practice of submitting directly to FTC. 78 FR 2200 (Jan. 10, 2013); 16 CFR 305.8(a)(1). As such, the CCMS reduces duplicative reporting for manufacturers of covered consumer products that are also required to report under the FTC Energy Label Rule.

DOE allows manufacturers of both consumer products and/or commercial equipment to apply for a test procedure waiver. Manufacturers may submit an application for a test procedure waiver at his or her discretion if it is determined that the basic model for which the petition for waiver was submitted contains one or more design characteristics that prevents testing of the basic model according to the prescribed test procedures, or if the prescribed test procedures may evaluate the basic model in a manner so unrepresentative of its true energy consumption characteristics as to provide materially inaccurate comparative data. The Department currently uses and will continue to use the information submitted in the application for a waiver as the basis for granting or denying the petition. See 10 CFR 430.27 for additional information on petitions for waivers and for consumer products. See 10 CFR 431.401 for additional information on petitions for waivers for commercial equipment.

DOE also allows manufacturers of both consumer products and/or commercial equipment to submit applications requesting an extension of the date by which representations must be made in accordance with any new or amended DOE test procedure. DOE may grant extensions of up to 180 days if it determines that making such representations would impose an undue hardship on the petitioner. The Department currently uses and will continue to use the information submitted in these applications as the basis for granting or denying the petition.

In addition to the FTC labeling requirements for consumer products discussed, EPCA directs DOE to establish labeling requirements for covered industrial and commercial equipment when specified criteria is met. If the Department has prescribed test procedures for any class of covered equipment, a labeling rule applicable to such class of covered equipment must be prescribed. (42 U.S.C. 6315(a)) EPCA, however, requires that certain criteria must be met prior to DOE prescribing a given labeling rule. Specifically, DOE must determine that: (1) Labeling is technologically and economically feasible with respect to any particular equipment class; (2) significant energy savings will likely result from such labeling; and (3) labeling is likely to assist consumers in making purchasing decisions. (42 U.S.C. 6315(h)) DOE has established labeling requirements under the authority in 42 U.S.C. 6315 for electric motors (10 CFR 431.31), walk-in coolers and freezers (10 CFR 431.305), and pumps (10 CFR 431.466).

(4) Proposed changes to the information collection, including description of additional information that would be collected.

DOE is considering revisions to the CCMS that would facilitate a reduction in duplicative reporting under the California's Appliance Efficiency Regulations, similar to what was achieved with the FTC. Under its Appliance Efficiency Regulations, California requires manufacturers to certify and report to the California Energy Commission, energy efficiency data of certain consumer products. See, California Code of Regulations (CCR), Title 20, section 1606. For consumer products that are reported to the California Energy Commission and are subject to Federal test procedures, the California regulations generally require submission of data from those Federal test procedures (i.e., the same data reported to DOE). DOE is considering adding fields to the CCMS that would allow the California Energy Commission to accept a CCMS report in satisfaction of the state reporting requirement. Submission of the additional information would not be mandatory (from DOE's perspective) and would consist of information that manufacturers are already submitting to the California Energy Commission. Should the California Energy Commission choose to streamline and harmonize its reporting requirements by giving manufacturers the option to report California-required data through DOE's CCMS, use of CCMS would reduce duplicative reporting between the California and DOE requirements.

DOE is considering collecting the total number of grid-enabled water heaters shipped annually by manufacturers of grid-enabled water heaters in order to comply with the requirements of The Energy Efficiency Improvement Act. (42 U.S.C. 6295(e)(6)(C)(i))

(5) Annual Estimated Number of Respondents: 2,000;

(6) Annual Estimated Number of Total Responses: 20,000;

(7) Annual Estimated Number of Burden Hours: 755,000 (35 hours per certification, including the time for reviewing instructions, searching existing data sources, gathering and maintaining the data needed, and completing and reviewing the collection of information; 16 additional hours for creating supplement testing instructions for commercial HVAC, water heating, and refrigeration equipment manufacturers; 160 hours for test procedure waiver preparation; 160 hours for representation extension request preparation; 1 hour for creating and applying a label for walk-in cooler and freezer, commercial and industrial pump, and electric motor manufacturers);

(8) Annual Estimated Reporting and Recordkeeping Cost Burden: $77,500,000.

Statutory Authority

Section 326(d) of the Energy Policy and Conservation Act, Public Law 94-163, as amended (42 U.S.C. 6296); 10 CFR parts 429, 430, and 431.

Signing Authority

This document of the Department of Energy was signed on November 18, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 18, 2020.
Treena V. Garrett,
Federal Register Liaison Officer, U.S. Department of Energy.

[FR Doc. 2020-25845 Filed 11-20-20; 8:45 am]

BILLING CODE 6450-01-P